DEPARTMENT OF COMMERCE

National Oceanic and Atmospheric Administration

[XRIN: 0648-XB30]

BSAI Crab Economic Data Collection Program; Public Meetings

AGENCY: Alaska Fishery Science Center (AFSC), National Marine Fisheries Service (NMFS), National Oceanic and Atmospheric Administration (NOAA), Commerce.

ACTION: Notice of public meetings.

SUMMARY: The Alaska Fishery Science Center, Economic and Social Science Research Program will hold public meetings in Kodiak, AK and Seattle, WA to review the BSAI Crab Economic Data Collection Program.

DATES: The meetings will be held on July 25, 2007 in Kodiak and August 2, 2007 in Seattle. See SUPPLEMENTARY INFORMATION for specific dates and times.

ADDRESSES: Alaska Fishery Science Center, 7600 Sand Point Way NE, Bldg 4, Seattle, WA 98155. See SUPPLEMENTARY INFORMATION for specific locations of meetings/hearing.

FOR FURTHER INFORMATION CONTACT: Dr. Brian Garber-Yonts, AFSC, (206) 526-6301.

SUPPLEMENTARY INFORMATION: These meetings are part of a process to respond to issues raised by the North Pacific Fisheries Management Council concerning the BSAI Crab Economic Data Report (EDR) data. The specific topics to be addressed at the meeting will be:

1. Data quality - ensuring that the questions are consistently interpreted across both industry who respond to the survey and analysts using the data.

2. Confidentiality - ensuring that any use or reporting of the data protects confidentiality interests of industry who have responded to the survey.

The Kodiak meeting will be held from 7 p.m. to 9 p.m. at Fisherman's Hall, 403 Marine Way W, Kodiak, AK.

The Seattle meeting will be held from 9 a.m. to 4 p.m. at Leif Erickson Hall, 2245 NW 57th St., Seattle, WA. The morning session will focus on crab processing data elements in the EDRs and the afternoon session will focus on crab harvesting data elements. Both meetings are open to the public.

A discussion paper reviewing the data quality and confidentiality topics was presented at the NPFMC meetings in March, 2007 and can be downloaded at http://www.fakr.noaa.gov/npfmc/summary_reports/DATA032007.pdf. A revised draft of the paper will be reviewed at the meetings. To receive an advance copy of the revised discussion paper, please contact Dr. Brian Garber-Yonts at (206) 526-6301 or by email at brian.garber-yonts@noaa.gov.

Special Accommodations

These meetings are physically accessible to people with disabilities. Requests for sign language interpretation or other auxiliary aids should be directed to Dr. Brian Garber-Yonts, AFSC, (206) 526-6301 at least 7 working days prior to the meeting date.

Dated: July 5, 2007.
Tracey L. Thompson,
Acting Director, Office of Sustainable Fisheries, National Marine Fisheries Service.

[FR Doc. E7-13323 Filed 7-9-07; 8:45 am]

BILLING CODE 3510-22-S